DEPARTMENT OF COMMERCE

Foreign-Trade Zones Board

[B-21-2022]

Foreign-Trade Zone (FTZ) 18—San Jose, California; Notification of Proposed Production Activity; Epoch International Enterprises, Inc. (Printed Circuit Board Assemblies and Enclosures), Fremont, California

Epoch International Enterprises, Inc., submitted a notification of proposed production activity to the FTZ Board (the Board) for its facility in Fremont, California, within Subzone 18M. The notification conforming to the requirements of the Board's regulations (15 CFR 400.22) was received on May 16, 2022.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include printed circuit board assemblies, tester boxes, ribbon cable assemblies, and potentiometer boards (duty rate ranges from duty-free to 2.7%).

The proposed foreign-status materials and components include: Printed circuit boards (PCBs); various capacitors (surface mount multi-layer ceramic chip; aluminum electrolytic); various resistors (surface mount fixed chip; non-surface mount); surface mount chip inductors; various diodes (surface mount; light emitting; transient-voltage-suppression); integrated circuits; various insulated copper cable with connectors (33 American Wire Gauge (AWG) or finer; larger than 22 AWG and finer but larger than 33 AWG); insulated copper cable larger than 22 AWG; various through hole/surface mount switches (tactile; toggle); mounted piezo electric crystals; thyristors; metal-oxide-semiconductor field-effect transistors; plastic machined or molded enclosures; plastic machined covers; multi-pin surface mount connectors for PCBs; surface mount or board mount (leaded) fuses; and, 3.7V lithium polymer batteries (duty rate ranges from duty-free to 5.3%). The request indicates that certain materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is July 6, 2022.

A copy of the notification will be available for public inspection in the “Online FTZ Information System” section of the Board's website.

For further information, contact Juanita Chen at juanita.chen@trade.gov.

Dated: May 23, 2022.
Andrew McGilvray,
Executive Secretary.

[FR Doc. 2022-11478 Filed 5-26-22; 8:45 am]

BILLING CODE 3510-DS-P